DEPARTMENT OF THE INTERIOR

Bureau of Indian Affairs

Notice of Intent To Prepare an Environmental Impact Statement for the Soboba Band of Luiseño Indians' Proposed Trust Acquisition and Casino/Hotel Project, City of San Jacinto, Riverside County, CA

AGENCY: Bureau of Indian Affairs, Interior.

ACTION: Notice.

SUMMARY: This notice advises the public that the Bureau of Indian Affairs (BIA), in cooperation with the Soboba Band of Luiseño Indians (Tribe), intends to gather information necessary for preparing an Environmental Impact Statement (EIS) for a proposed fee-to-trust land acquisition and casino and hotel project (Proposed Action) located within the City of San Jacinto, Riverside County, California. The purpose of the Proposed Action is to improve the tribal economy in order to better enable the Tribe to provide governmental services, perform governmental functions, create jobs and career opportunities for tribal members and develop programs that would assist tribal members to attain economic self-sufficiency. This notice also announces a public scoping meeting to identify potential issues, alternatives and content for inclusion in the EIS.

DATES: Written comments on the scope of the EIS must arrive by January 22, 2008. The public scoping meeting will be held January 8, 2008, from 6 p.m. to 8 p.m., or until all those who register to make statements have been heard.

ADDRESSES: You may mail or hand carry written comments to Ms. Amy Dutschke, Acting Regional Director, Pacific Regional Office, Bureau of Indian Affairs, 2800 Cottage Way, Sacramento, California 95825.

The public scoping meeting will be held at the Hemet Public Library, 2nd floor, 300 E. Latham, Hemet, California 92543.

FOR FURTHER INFORMATION CONTACT: John Rydzik, (916) 978-6042.

SUPPLEMENTARY INFORMATION: The Tribe proposes that 289.88± acres of land located within the City of San Jacinto, Riverside County, California, be acquired into trust for the Tribe. The land is located in the foothills on the west side of the San Jacinto Mountains that separate the San Jacinto River Basin to the west from the Coachella Valley to the east, and adjacent to the San Jacinto River.

Of the 289.88± acres, 35 to 40 acres are proposed for development. The remaining acreage would remain in its current state, which consists of an existing golf course (156.36 acres) and maintenance facility, and on-going club house development. The proposed new development would consist of a 90,000± square foot casino facility with 70,000± square foot gaming floor, various food and beverage establishments, conference space, spa, and four retail establishments; a 300-room, 224,000± square foot hotel; a multi-level, 2200 space parking garage; a tribal fire station; a wastewater treatment plant; and supporting facilities. The new gaming facility would replace the existing one located on reservation lands.

Access to the site would be via Lake Park Drive and Soboba Road, by way of a new access point/driveway. The proposed hotel and casino complex would be generally located at the intersection of Soboba Road and Lake Park Drive and abut the existing golf course. The proposed wastewater treatment plant and fire station would be on the southern side of Lake Park Drive.

The Soboba Band of Luiseño Indians is a federally recognized Indian tribe governed by a tribal council consisting of five members, under a federally approved constitution. The Tribe currently has a federally approved tribal-state gaming compact with the State of California.

Public Comment and Solicitation

Comments, including names and addresses of respondents, will be available for public review at the BIA address shown in the ADDRESSES section, during business hours, 8 a.m. to 4:30 p.m., Monday through Friday, except holidays. Before including your address, phone number, e-mail address or other personal identifying information in your comment, you should be aware that your entire comment—including your personal identifying information—may be made publicly available at any time. While you can ask us in your comment to withhold your personal identifying information from public review, we cannot guarantee that we will be able to do so.

Authority

This notice is published in accordance with section 1501.7, 1506.6 and 1508.22 of the Council on Environmental Quality Regulations (40 CFR parts 1500 through 1508) implementing the procedural requirements of the National Environmental Policy Act of 1969, as amended (42 U.S.C. 4371 et seq.), and the Department of the Interior Manual (516 DM 1-6), and is in the exercise of authority delegated to the Assistant Secretary—Indian Affairs by 209 DM 8.1.

Dated: November 9, 2007.
Carl J. Artman,
Assistant Secretary—Indian Affairs.

[FR Doc. E7-24293 Filed 12-13-07; 8:45 am]

BILLING CODE 4310-W7-P